DEPARTMENT OF HEALTH AND HUMAN SERVICES

Administration for Children and Families

Proposed Information Collection Activity; Comment Request

Title: Youth Education and Relationship Services (YEARS) Descriptive Study.

OMB No.: New Collection.

Description: Since 2006, Congress has authorized dedicated funding (currently at the level of $75 million annually) to support programs promoting healthy marriage and relationship education (HMRE). In order to better understand the services that federally-funded HMRE programs are providing to youth and the populations the programs are reaching, The Office of Planning, Research and Evaluation (OPRE), within ACF/HHS is proposing data collection activity as part of the Youth Education and Relationship Services (YEARS) Descriptive Study. The data that ACF proposes to collect includes information on funding spent serving youth, the number of youth being served, youth demographic characteristics, characteristics of the organizations or programs serving youth, information on program curricula and contents, and program implementation information. This data is to be collected through a web-based survey that is to be completed by HMRE grantee program staff. This information will be critical to informing future efforts to improve HMRE programs serving youth.

Respondents: Healthy marriage and relationship education (HMRE) grantee program staff.

Annual Burden Estimates
Instrument | Total number of respondents | Annual number of respondents | Number of responses per respondent | Average burden hours per response | Annual burden hours
Web-based survey | 176 | 88 | 1 | 0.5 | 44

Estimated Total Annual Burden Hours: 44

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection. The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Reference

[1] http://www.ssa.gov/OP_Home/ssact/title04/0403.htm.

Karl Koerper,
Reports Clearance Officer.

[FR Doc. 2015-03924 Filed 2-25-15; 8:45 am]

BILLING CODE 4184-73-P